DEPARTMENT OF LABOR

Employment and Training Administration

[TA-W-63,052]

Chrysler LLC, St. Louis North Assembly Plant Including On-Site Leased Workers From HAAS TCM, Inc., and Logistics Services, Inc., Fenton, MO; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility To Apply for Worker Adjustment Assistance and Alternative Trade Adjustment Assistance on April 14, 2008, applicable to workers of Chrysler LLC, St. Louis North Assembly Plant, Fenton, Missouri. The notice was published in the Federal Register on May 2, 2008 (73 FR 24317). The certification was subsequently amended to include on-site leased workers from HAAS TMC, Inc. The amendment was issued on November 18, 2008, and published in the Federal Register on December 1, 2008 (73 FR 72848).

At the request of a UAW, Region 5 official, the Department reviewed the certification for workers of the subject firm. The workers assemble Dodge Ram full-sized pickup trucks.

New information shows that leased workers from Logistics Services, Inc., were employed on-site at the Fenton, Missouri, location of Chrysler LLC, St. Louis North Assembly Plant. The Department has determined that these workers were sufficiently under the control of Chrysler LLC, St. Louis North Assembly Plant, to be considered leased workers.

Based on these findings, the Department is amending this certification to include workers leased from Logistics Services, Inc., working on-site at the Fenton, Missouri, location of the subject firm.

The intent of the Department's certification is to include all workers employed at Chrysler LLC, St. Louis North Assembly Plant, Fenton, Missouri, who were adversely affected by increased imports of Dodge Ram full-sized pickup trucks.

The amended notice applicable to TA-W-63,052 is hereby issued as follows:

“All workers of Chrysler LLC, St. Louis North Assembly Plant, including on-site leased workers from HAAS TCM, Inc., and Logistics Services, Inc., Fenton, Missouri, who became totally or partially separated from employment on or after March 18, 2007, through April 14, 2010, are eligible to apply for adjustment assistance under Section 223 of the Trade Act of 1974, and are also eligible to apply for alternative trade adjustment assistance under Section 246 of the Trade Act of 1974.”

Signed at Washington, DC, this 9th day of December 2008.
Elliott S. Kushner,
Certifying Officer, Division of Trade Adjustment Assistance.

[FR Doc. E8-29933 Filed 12-17-08; 8:45 am]

BILLING CODE 4510-FN-P